DEPARTMENT OF LABOR

Pension and Welfare Benefits Administration

Agency Information Collection Activities; Announcement of OMB Approval

AGENCY: Pension and Welfare Benefits Administration, Department of Labor.

ACTION: Notice.

SUMMARY: The Pension and Welfare Benefits Administration (PWBA) is announcing that collections of information included in its Interim Rules for the Health Insurance Portability for Group Health Plans, the guidance on implementation of the Health Insurance Portability and Accountability Act of 1996 (HIPAA interim rules), specifically, the Notice of Enrollment Rights, the Notice of Pre-Existing Condition Exclusion, and Establishing Prior Creditable Coverage, have been approved by the Office of Management and Budget (OMB) under the Paperwork Reduction Act of 1995. This notice announces the OMB approval numbers and expiration dates.

FOR FURTHER INFORMATION CONTACT: Address requests for copies of the information collection requests (ICRs) to Gerald B. Lindrew, U.S. Department of Labor, Pension and Welfare Benefits Administration, 200 Constitution Avenue, NW. Room N-5647, Washington, DC, 20210. Telephone: (202) 219-4782. This is not a toll-free number.

SUPPLEMENTARY INFORMATION: In the Federal Register of December 28, 1999 (64 FR 72696), the Agency announced its intent to request renewal of its current OMB approval for the Notice of Enrollment Rights, an information collection request (ICR) included in the HIPAA interim rules. In accordance with the Paperwork Reduction Act of 1995 (44 U.S.C. 3501-3520) (PRA 95), OMB has renewed its approval for the information collection request (ICR) under OMB control number 1210-0101. The approval expires 06/30/2003.

In the Federal Register of December 28, 1999 (64 FR 72697), the Agency announced its intent to request renewal of its current OMB approval for the Notice of Pre-Existing Condition Exclusion, an ICR included in the HIPAA interim rules. In accordance with PRA 95, OMB has renewed it approval for the ICR under OMB control number 1210-0101. The approval expires 06/30/2003.

In the Federal Register of December 28, 1999 (64 FR 72698), the Agency announced its intent to request renewal of its current OMB approval for Establishing Creditable Coverage, an ICR included in the HIPAA interim rules. In accordance with PRA 95, OMB has renewed its approval for the ICR under OMB control number 1210-0103. The approval expires 06/30/2003.

Under 5 CFR 1320.5(b), an Agency may not conduct or sponsor, and a person is not required to respond to, a collection of information unless the collection of information displays a valid control number.

Dated: June 21, 2000.
Gerald B. Lindrew,
Deputy Director, Office of Policy and Research, Pension and Welfare Benefits Administration.

[FR Doc. 00-16322 Filed 6-29-00; 8:45 am]

BILLING CODE 4510-29-M